NATIONAL SCIENCE FOUNDATION

Advisory Committee for Education and Human Resources; Notice of Meeting

In accordance with the Federal Advisory Committee Act (Pub. L. 92-463, as amended), the National Science Foundation announces the following meeting:

Name: Advisory Committee for Education and Human Resources (#1119).

Date/Time: May 7, 2008; 8:30 a.m. to 5 p.m. May 8, 2008; 8:30 a.m. to 12 p.m.

Place: National Science Foundation Headquarters, Stafford Place II—Room 555, 4201 Wilson Boulevard, Arlington, VA 22230.

Type of Meeting: Open.

Contact Person: James Colby, National Science Foundation, 4201 Wilson Boulevard, Arlington, VA 22230, (703) 292-5331.

If you are attending the meeting and need access to the NSF, please contact the individual listed above so your name may be added to the building access list.

Purpose of Meeting: To provide advice with respect to the Foundation's education and human resources programming.

Agenda:

Wednesday, May 7, 2008

Assistant Director's Remarks

Overview of Selected Programs that Support:

• Broadening Participation to Improve Workforce Development.

• Enriching the Education of STEM Teachers.

• Promoting Learning Through Research and Evaluation.

Review and Acceptance of Special Report from NSF's Task Force on Cyber-enabled STEM Learning.

Thursday, May 8, 2008

Overview of Selected Programs that Support:

• Furthering Public Understanding of Science and Advancing STEM Literacy.

• Review and Acceptance of Committee of Visitor Reports.

• Future Issues for Consideration.

Dated: April 15, 2008.
Susanne Bolton,
Committee Management Officer.

[FR Doc. E8-8461 Filed 4-18-08; 8:45 am]

BILLING CODE 7555-01-P